NUCLEAR REGULATORY COMMISSION

[Docket No. 72-27; NRC-2019-0193]

Humboldt Bay Independent Spent Fuel Storage Installation

AGENCY: Nuclear Regulatory Commission.

ACTION: Environmental assessment and finding of no significant impact; issuance.

SUMMARY: The U.S. Nuclear Regulatory Commission (NRC) is considering the renewal of Special Nuclear Materials (SNM) License SNM-2514 for the Humboldt Bay independent spent fuel storage installation (ISFSI) (Humboldt Bay ISFSI) located in Humboldt County, California. The NRC has prepared an environmental assessment (EA) for this proposed license renewal in accordance with its regulations. Based on the EA, the NRC has concluded that a finding of no significant impact (FONSI) is appropriate. The NRC also is conducting a safety evaluation of the proposed license renewal.

DATES: The EA and FONSI referenced in this document are available on May 5, 2020.

ADDRESSES: Please refer to Docket ID NRC-2019-0193 when contacting the NRC about the availability of information regarding this document. You may obtain publicly-available information related to this document using any of the following methods:

• Federal Rulemaking Website: Go to https://www.regulations.gov/ and search for Docket ID NRC-2019-0193. Address questions about NRC docket IDs in Regulations.gov to Jennifer Borges; telephone: 301-287-9127 email: Jennifer.Borges@nrc.gov. For technical questions, contact the individual listed in the FOR FURTHER INFORMATION CONTACT section of this document.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

FOR FURTHER INFORMATION CONTACT: Monika Coflin, Office of Nuclear Material Safety and Safeguards, U.S. Nuclear Regulatory Commission, Washington, DC 20555-0001; telephone: 301-415-5932, email: Monika.Coflin@nrc.gov.

SUPPLEMENTARY INFORMATION:

I. Introduction

The NRC is considering a license renewal request for SNM-2514 for the Humboldt Bay ISFSI located in Humboldt County, California (ADAMS Package Accession No. ML18215A202). The licensee, Pacific Gas & Electric (PG&E), is requesting to renew license SNM-2514 for the Humboldt Bay ISFSI for an additional 40 years. The current license will expire on November 17, 2025. If approved, PG&E would be able to continue to possess and store spent nuclear fuel at the Humboldt Bay ISFSI in accordance with the requirements in part 72 of title 10 of the Code of Federal Regulations (10 CFR), “Licensing Requirements for the Independent Storage of Spent Nuclear Fuel, High-Level Radioactive Waste, and Reactor-Related Greater than Class C Waste.”

The NRC staff has prepared a final EA as part of its review of this license renewal request in accordance with the requirements of 10 CFR part 51, “Environmental Protection Regulations for Domestic Licensing and Related Regulatory Functions.” Based on the final EA, the NRC has determined that an environmental impact statement (EIS) is not required for this proposed action and a FONSI is appropriate. The NRC is also conducting a safety evaluation of the proposed license amendment pursuant to 10 CFR part 72, and the results will be documented in a separate Safety Evaluation Report (SER). If PG&E's request is approved, the NRC will issue the license renewal following publication of this final EA and FONSI and the SER in the Federal Register.

II. Final Environmental Assessment Summary

PG&E is requesting to renew license SNM-2514 for the Humboldt Bay ISFSI for a 40-year period. The NRC has considered the proposed action and alternatives to the proposed action, including license renewal for an additional 20-year term, shipment of spent fuel to an offsite facility, and the no-action alternative of denying the license renewal request. The results of the NRC's environmental review can be found in the final EA (ADAMS Accession No. ML19252A248). The NRC staff performed its environmental review in accordance with the requirements in 10 CFR part 51. In conducting the environmental review, the NRC considered information in the license renewal application and from communications with the California State Historic Preservation Office; the State of California Native American Heritage Commission (NAHC); nine Native American Tribes; the California Department of Fish and Wildlife (CDFW); and the California State Department of Health Services.

Approval of PG&E's proposed license renewal request would allow the five (5) HI-STAR 100 HB casks containing spent fuel and one storage cask containing greater than Class C (GTCC) activated metal waste to continue to remain on the Humboldt Bay ISFSI for an additional 40 years. The estimated annual dose to the nearest resident from ISFSI activities is 0.0448 mSv/yr (4.48 mrem/yr), which is below the 0.25 mSv/yr (25 mrem/yr) limit specified in 10 CFR 72.104(a). Furthermore, PG&E maintains a radiation protection program for the ISFSI in accordance with 10 CFR part 20 to ensure that radiation doses are as low as is reasonably achievable (ALARA). Accordingly, no significant radiological or non-radiological impacts are expected to result from approval of the license renewal request, and the proposed action would not significantly contribute to cumulative impacts at the Humboldt Bay site. Additionally, the proposed action would not cause a significant impact on any population, nor did the staff identify significant percentages of minority or low-income populations within a 6 km (4 mi) radius of the ISFSI. The Commission has stated that absent “significant impacts, an environmental justice review should not be considered for an EA where a FONSI is issued unless special circumstances warrant the review.”

In its license renewal request, PG&E is proposing no changes in how it handles or stores spent fuel at the Humboldt Bay ISFSI. Approval of the proposed action would not result in any new construction or expansion of the existing ISFSI footprint beyond that previously approved. The ISFSI is a largely passive facility that produces no liquid or gaseous effluents. No significant radiological or nonradiological impacts are expected from continued normal operations. Occupational dose estimates associated with the proposed action and continued normal operation and maintenance of the ISFSI are expected to be at ALARA levels and within the limits of 10 CFR 20.1201. Therefore, the NRC staff has determined that pursuant to 10 CFR 51.31, preparation of an EIS is not required for the proposed action, and pursuant to 10 CFR 51.32, a FONSI is appropriate.

Furthermore, the NRC staff determined that, because approval of this license renewal request would maintain the status quo at the site, it does not have the potential to cause effects on historic properties; therefore, in accordance with 36 CFR 800.3(a)(1), no consultation is required under Section 106 of the National Historic Preservation Act of 1966. The NRC staff informed the California State Historic Preservation Officer (SHPO) of its determination via letter dated June 19, 2019 (ADAMS Accession No. ML19169A154) and informed nine Native American Tribes via letters dated November 15, 2018 (ADAMS Package Accession No. ML18303A365). The California SHPO responded via letter dated July 11, 2019, indicating that the SHPO does not object to a finding that no historic properties would be affected by this undertaking (ADAMS Accession No. ML19198A078). The NRC staff, with the assistance of the U.S. Fish and Wildlife Service Information for Planning and Consultation (IPaC) project planning tool, determined that the listed species and/or critical habitat would not be adversely affected by the proposed action.

III. Finding of No Significant Impact

Based on its review of the proposed action in the EA, in accordance with the requirements in 10 CFR part 51, the NRC has concluded that the proposed action, renewal of NRC Special Nuclear Materials License No. SNM-2514 for the Humboldt Bay ISFSI located in Humboldt County, California, will not significantly affect the quality of the human environment. Therefore, the NRC has determined, pursuant to 10 CFR 51.31, that preparation of an EIS is not required for the proposed action and a finding of no significant impact is appropriate.

Dated: April 30, 2020.
For the Nuclear Regulatory Commission.
Cinthya I. Roman-Cuevas,
Chief, Environmental Review Materials Branch, Division of Rulemaking, Environmental, and Financial Support, Office of Nuclear Material Safety and Safeguards.

[FR Doc. 2020-09598 Filed 5-4-20; 8:45 am]

BILLING CODE 7590-01-P